DEPARTMENT OF JUSTICE

Notice of Lodging of Consent Decree Pursuant to the Comprehensive Environmental Response, Compensation, and Liability Act

Pursuant to Section 122(d)(2) of the Comprehensive Environmental Response, Compensation, and Liability Act (“CERCLA”), 42 U.S.C. 9622(d)(2), and 28 CFR 50.7, notice is hereby given that a proposed consent decree embodying a settlement in United States v. Iron Mountain Mines, Inc., et al., No. CIV S-91-0768 DFL/JFM, was lodged on October 19, 2000, with the United States District Court for the Eastern District of California.

In a consolidated action, the United States and the State of California seek reimbursement of response costs incurred by the United States Environmental Protection Agency (“EPA”) and by the California Department of Toxic Substances Control (“DTSC”) and the California Regional Water Quality Control Board for the Central Valley Region (“RWQCB”), pursuant to Section 107 of CERCLA, 42 U.S.C. § 9607, in response to release of hazardous substances at the Iron Mountain Mine Superfund Site in Northern California (“Site”).

Under the proposed consent decree, the settling parties have agreed to fund future response actions at the Site. Future work includes, among other things, operation and maintenance of the remedial actions selected in the four Records of Decision issued to date by EPA. These activities principally involve maintenance of the collection, conveyance, and treatment systems designed to address discharges of acid mine drainage from the Site, as well as certain additional activities. Operation and maintenance of the remedial actions will be conducted by a site operator, which is a signatory to the consent decree, with funding provided through a structured settlement with the settling parties. The structured settlement provides, through an insurance vehicle, coverages totaling approximately $337 million for the first thirty years of Site activities, together with a balloon payment of approximately $514 million after the thirtieth year, from which the federal or State of California government may fund future activities. The settlement also provides $11 million for natural resource damage restoration activities, to be administered by the natural resources trustees for the Site, which include the U.S. Fish & Wildlife Service, the U.S. Bureau of Reclamation, the U.S. Bureau of Land Management, the National Park Service, the National Oceanic and Atmospheric Administration, and the California Department of Fish and Game.

The Department of Justice will receive, until November 13, 2000, comments relating to the proposed consent decree. Comments should be addressed to the Assistant Attorney General for the Environment and Natural Resources Division, U.S. Department of Justice, Box 7611 Ben Franklin Station, Washington, D.C. 20044-7611, and should refer to United States v. Iron Mountain Mines, Inc., et al., DOJ Ref. #90-11-3-196A. Commenters may request a public hearing in the affected area, pursuant to Section 7003(d) of RCRA, 42 U.S.C. 6973(d).

The proposed consent decree may be examined at the EPA Region 9 Superfund Records Center, 75 Hawthorne Street, Fourth Floor, San Francisco, California 94105, and at the Office of the United States Attorney for the Eastern District of California, 501 “I” Street, Suite 10-100, Sacramento, California 95814. A copy of the proposed consent decree may be also be obtained by mail from the Department of Justice Consent Decree Library, Box 7611, Ben Franklin Station, Washington, D.C. 20044-7611. In requesting a copy, please refer to the referenced case and enclose a check in the amount of $231.75 (25 cents per page reproduction costs), payable to the Consent Decree Library. A copy of the decree, exclusive of the parties' signature pages and the attachments, may be obtained for $21.50.

Bruce Gelber,
Chief, Environmental Enforcement Section, Environment and Natural Resources Division.

[FR Doc. 00-27312 Filed 10-19-00; 4:52 pm]

BILLING CODE 4410-15-M